DEPARTMENT OF COMMERCE

Foreign-Trade Zones Board

[B-40-2017]

Foreign-Trade Zone (FTZ) 57—Charlotte, North Carolina, Authorization of Limited Production Activity; DNP Imagingcomm America Corporation (Coatings and Lamination on Semi-Completed Coated Paper), Concord, North Carolina

On May 30, 2017, the Charlotte Regional Partnership, Inc., grantee of FTZ 57, submitted a notification of proposed production activity to the FTZ Board on behalf of DNP Imagingcomm America Corporation (DNP), within Subzone 57C, in Concord, North Carolina.

The notification was processed in accordance with the regulations of the FTZ Board (15 CFR part 400), including notice in the Federal Register inviting public comment (82 FR 28627-28628, June 23, 2017). On September 27, 2017, the applicant was notified of the FTZ Board's conditional decision that no further review of the activity is warranted at this time. The production activity described in the notification was authorized, subject to the FTZ Act and the FTZ Board's regulations, including Section 400.14, and further subject to a five-year time limit (ending September 27, 2022) on admission of foreign status chemical binders (classifiable under HTSUS 3824.90, according to the notification).

Dated: September 27, 2017.
Andrew McGilvray,
Executive Secretary.

[FR Doc. 2017-21215 Filed 10-2-17; 8:45 am]

BILLING CODE 3510-DS-P